DELAWARE RIVER BASIN COMMISSION

Notice of Proposed Rulemaking; Proposed Amendments to the Administrative Manual—Rules of Practice and Procedure Concerning Fees Associated With Responses to the Freedom of Information Act Requests

AGENCY: Delaware River Basin Commission.

SUMMARY: The Delaware River Basin Commission (Commission) will hold a public hearing to receive comments on proposed amendments to the agency's Administrative Manual—Rules of Practice and Procedure updating the fee schedule associated with Commission responses to Freedom of Information Act (FOIA) requests. The current schedule of fees was promulgated in 1975 and has not been updated since. Over the past quarter of a century, computer technologies have introduced new methods of recording and reproducing information that were not contemplated by the 1975 regulations, and administrative costs have increased. The proposed fee structure reflects current technology and costs. The current fees, at Section 2.8.10 of the Administrative Manual—Rules of Practice and Procedure, 18 CFR 401.110, and proposed amendments may be viewed on the Commission's Web site at http://www.drbc.net.

DATES: The public hearing will be held on Friday, May 31, 2002, during the Commission's regular business meeting, which will begin at 1:00 p.m. The meeting on May 31 must end by 3:00 p.m., but if necessary, the hearing will continue at the Commission's next scheduled business meeting until all those who wish to testify are afforded an opportunity to do so. Persons wishing to testify are asked to register in advance with the Commission Secretary by phoning 609-883-9500 ext. 203. Written comments will be accepted through the close of the public hearing; however, earlier submittals would be appreciated.

ADDRESSES: The public hearing will be held at Grey Towers National Historic Landmark, 151 Grey Towers Drive, Milford, PA. Directions will be posted on the Commission's Web site at http://www.drbc.net by April 1, 2002. Written comments should be addressed to the Commission Secretary at DRBC, P.O. Box 7360, West Trenton, NJ 08628-0360.

FOR FURTHER INFORMATION CONTACT: Please contact Pamela Bush at 609-883-9500 ext. 203 with questions about the proposed amendments or the rulemaking process. Notice also is posted on the Commission's Web site, at http://www.drbc.net.

Dated: March 7, 2002.
Pamela M. Bush,
Commission Secretary.

[FR Doc. 02-5958 Filed 3-14-02; 8:45 am]

BILLING CODE 6360-01-P